DEPARTMENT OF TRANSPORTATION

Federal Aviation Administration

14 CFR Part 39

[Docket No. 2000-SW-37-AD; Amendment 39-12449; AD 2001-20-03]

RIN 2120-AA64

Airworthiness Directives; Bell Helicopter Textron Canada Model 206L-4 Helicopters

AGENCY: Federal Aviation Administration, DOT.

ACTION: Final rule.

SUMMARY: This amendment adopts a new airworthiness directive (AD) for Bell Helicopter Textron Canada (BHTC) Model 206L-4 helicopters that requires installing a high altitude tail rotor static stop yield indicator (indicator) to allow operators to detect excessive bending loads sustained by the tail rotor yoke. A preflight check of the indicator is also required. This amendment is prompted by a determination that a tail rotor yoke with a high altitude rotor system is susceptible to a static and dynamic overload. Static overload could occur after the tail rotor yoke sustains an excessive bending load due to a strike from a ground vehicle. Dynamic overload could occur as a result of a hard landing. The actions specified by this AD are intended to prevent failure of the tail rotor yoke in flight and subsequent loss of control of the helicopter.

DATES: Effective November 7, 2001.

The incorporation by reference of certain publications listed in the regulations is approved by the Director of the Federal Register as of November 7, 2001.

ADDRESSES: The service information referenced in this AD may be obtained from Bell Helicopter Textron Canada, 12,800 Rue de l'Avenir, Mirabel, Quebec J7J1R4, telephone (450) 437-2862 or (800) 363-8023, fax (450) 433-0272. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Sharon Miles, Aviation Safety Engineer, FAA, Rotorcraft Directorate, Regulations Group, Fort Worth, Texas 76193-0111, telephone (817) 222-5122, fax (817) 222-5961.

SUPPLEMENTARY INFORMATION: A proposal to amend 14 CFR part 39 to include an AD for BHTC Model 206L-4 helicopters was published in the Federal Register on June 25, 2001 (66 FR 33649). That action proposed to require installing an indicator, P/N 206-011-752-101, within 100 hours time-in-service. Requiring a preflight visual check for damage to the indicator was also proposed.

Interested persons have been afforded an opportunity to participate in the making of this amendment. No comments were received on the proposal or the FAA's determination of the cost to the public. The FAA has determined that air safety and the public interest require the adoption of the rule as proposed.

The FAA estimates that 16 helicopters of U.S. registry will be affected by this AD, that it will take approximately 0.5 work hour per helicopter to accomplish the required actions, and that the average labor rate is $60 per work hour. Required parts will cost approximately $1,753. Based on these figures, the total cost impact of this AD on U.S. operators is estimated to be $28,528.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2001-20-03 Bell Helicopter Textron Canada: Amendment 39-12449. Docket No. 2000-SW-37-AD.

Applicability: Model 206L-4 helicopters, with High Altitude Tail Rotor Kit, part number (P/N) 206-704-722-101 (BHT-206-SI-2054), installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required as indicated, unless accomplished previously.

To prevent failure of the tail rotor yoke in flight and subsequent loss of control of the helicopter, accomplish the following:

(a) Within 100 hours time-in-service, install a high altitude tail rotor static stop yield indicator (indicator), P/N 206-011-752-101, in accordance with the Accomplishment Instructions, Part II, Bell Helicopter Textron Alert Service Bulletin No. 206L-96-104, Revision B, dated July 24, 1998.

(b) Before each engine start, check the indicator for damage in accordance with Figure 1 of this AD. If damage is found, before further flight, replace the damaged indicator with an airworthy indicator, and replace the tail rotor yoke, P/N 406-012-102-107, with an airworthy tail rotor yoke.

BILLING CODE 4910—13-U

BILLING CODE 4910-13-C

(c) An owner/operator (pilot) holding at least a private pilot certificate may perform the visual check required by paragraph (b) of this AD and must record compliance in the helicopter maintenance records in accordance with 14 CFR 43.11 and 91.417(a)(2)(v)).

(d) An alternative method of compliance or adjustment of the compliance time that provides an acceptable level of safety may be used if approved by the Manager, Rotorcraft Certification Office, Rotorcraft Directorate, FAA. Operators shall submit their requests through an FAA Principal Maintenance Inspector, who may concur or comment and then send it to the Manager, Rotorcraft Certification Office.

Note 2: Information concerning the existence of approved alternative methods of compliance with this AD, if any, may be obtained from the Rotorcraft Certification Office.

(e) Special flight permits may be issued in accordance with 14 CFR 21.197 and 21.199 to operate the helicopter to a location where the requirements of this AD can be accomplished.

(f) The modification shall be done in accordance with the Accomplishment Instructions, Part II, Bell Helicopter Textron Alert Service Bulletin No. 206L-96-104, Revision B, dated July 24, 1998. This incorporation by reference was approved by the Director of the Federal Register in accordance with 5 U.S.C. 552(a) and 1 CFR part 51. Copies may be obtained from Bell Helicopter Textron Canada, 12,800 Rue de l'Avenir, Mirabel, Quebec J7J1R4, telephone (450) 437-2862 or (800) 363-8023, fax (450) 433-0272. Copies may be inspected at the FAA, Office of the Regional Counsel, Southwest Region, 2601 Meacham Blvd., Room 663, Fort Worth, Texas; or at the Office of the Federal Register, 800 North Capitol Street, NW., suite 700, Washington, DC.

(g) This amendment becomes effective on November 7, 2001.

Note 3: The subject of this AD is addressed in Transport Canada (Canada) AD CF-98-11, dated June 16, 1998.

Issued in Fort Worth, Texas, on September 24, 2001.
David A. Downey,
Manager, Rotorcraft Directorate, Aircraft Certification Service.

[FR Doc. 01-24622 Filed 10-2-01; 8:45 am]

BILLING CODE 4910-13-U